DEPARTMENT OF COMMERCE

International Trade Administration

[C-533-900, C-821-830]

Granular Polytetrafluoroethylene Resin From India and the Russian Federation: Postponement of Preliminary Determinations in the Countervailing Duty Investigations

AGENCY: Enforcement and Compliance, International Trade Administration, Department of Commerce.

DATES: Applicable March 19, 2021.

FOR FURTHER INFORMATION CONTACT: Janae Martin at (202) 482-0238 (India) and George Ayache at (202) 482-2623 (the Russian Federation (Russia)), AD/CVD Operations, Enforcement and Compliance, International Trade Administration, U.S. Department of Commerce, 1401 Constitution Avenue NW, Washington, DC 20230.

SUPPLEMENTARY INFORMATION:

Background

On February 16, 2021, the Department of Commerce (Commerce) initiated countervailing duty (CVD) investigations of imports of granular polytetrafluoroethylene (PTFE) resin from India and Russia.¹ Currently, the preliminary determinations are due no later than April 22, 2021.

¹ See Granular Polytetrafluoroethylene Resin from India and the Russian Federation: Initiation of Countervailing Duty Investigations, 86 FR 10931 (February 23, 2021).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Daikin America, Inc.

On March 9, 2021, the petitioner submitted a timely request that Commerce postpone the preliminary determinations of the CVD investigations of granular PTFE resin from India and Russia.³ The petitioner stated that it requests postponement “to allow Commerce to fully analyze respondents' questionnaire responses, and any other filings such as new subsidy allegations and benchmark factual information, prior to the preliminary determination.” ⁴ In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which these investigations were initiated, i.e., June 28, 2021.⁵ Pursuant to section 705(a)(1) of the Act and 19 CFR 351.210(b)(1), the deadline for the final determinations of these investigations will continue to be 75 days after the date of the preliminary determinations.

³ See Petitioner's Letter, “Granular Polytetrafluoroethylene (PTFE) Resin from India and Russia: Request to Extend Preliminary Determinations,” dated March 9, 2021.

⁴ Id.

⁵ Postponing the preliminary determination to 130 days after initiation would place the deadline on Saturday, June 26, 2021. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: March 15, 2021.
Christian Marsh,
Acting Assistant Secretary for Enforcement and Compliance.

[FR Doc. 2021-05739 Filed 3-18-21; 8:45 am]

BILLING CODE 3510-DS-P